NATIONAL ARCHIVES AND RECORDS ADMINISTRATION

Nixon Presidential Historical Materials; Opening of Materials

AGENCY: National Archives and Records Administration.

ACTION: Notice of opening of materials.

SUMMARY: This notice announces the opening of additional files from the Nixon Presidential historical materials. Notice is hereby given that, in accordance with section 104 of Title I of the Presidential Recordings and Materials Preservation Act (PRMPA, 44 U.S.C. 2111 note) and 1275.42(b) of the PRMPA Regulations implementing the Act (36 CFR Part 1275), the agency has identified, inventoried, and prepared for public access integral file segments among the Nixon Presidential historical materials.

DATES: The National Archives and Records Administration (NARA) intends to make these materials described in this notice available to the public beginning April 5, 2001. In accordance with 36 CFR 1275.44, any person who believes it necessary to file a claim of legal right or privilege concerning access to these materials should notify the Archivist of the United States in writing of the claimed right, privilege, or defense before March 14, 2001.

ADDRESSES: The materials will be made available to the public at the National Archives at College Park research room, located at 8601 Adelphi Road, College Park, Maryland beginning at 8:45 a.m. Researchers must have a NARA researcher card, which they may obtain when they arrive at the facility.

Petitions asserting a legal or constitutional right or privilege which would prevent or limit access must be sent to the Archivist of the United States, National Archives at College Park, 8601 Adelphi Road, College Park, Maryland 20740-6001.

FOR FURTHER INFORMATION CONTACT: Karl Weissenbach, Director, Nixon Presidential Materials Staff, 301-713-6950.

SUPPLEMENTARY INFORMATION: The integral file segments of textual materials to be opened on April 5, 2001, consist of 48 cubic feet.

The White House Central Files Unit is a permanent organization within the White House complex that maintains a central filing and retrieval system for the records of the President and his staff. Some of the materials are from the White House Central Files, Subject Files. The Subject Files are based on an alphanumerical file scheme of 61 primary categories. Listed below are the integral file segments from the White House Central Files, Subject Files in this opening.

Subject Category

Federal Government (FG)

Volume: 4 cubic feet

FG 134 Foreign Claims Settlement Commission of the United States

FG 135 Foreign Trade Zones Board

FG 136 Four Corners Regional Commission

FG 137 Franklin Delano Roosevelt Memorial Commission

FG 138 General Advisory Committee on Foreign Assistance Program

FG 139 General Services Administration

FG 140 Golden Spike Centennial Celebration Commission

FG 141 Health Resources Advisory Committee

FG 143 Institute for Urban Development

FG 144 Interagency Committee on International Athletics

FG 146 Interagency Committee on Transport Mergers

FG 331 National Advisory Commission on Oceans and Atmosphere

FG 332 National Commission on Individual Rights

FG 334 Price Commission

FG 335 Pay Board

FG 336 Committee on Interest and Dividends

FG 337 Committee on the Health Services Industry

FG 338 Committee on State and Local Government Cooperation

FG 339 Rent Advisory Board

FG 340 President's Cancer Panel

FG 341 Federal Regional Council

In accordance with the provisions of Executive Order 12958, several series within the National Security Council files have been systematically reviewed for declassification and will be made available. In addition, a number of documents which were previously withheld from public access have been re-reviewed for release and or declassified under the provisions of Executive Order 12958, or in accordance with 36 CFR 1275.56 (Public Access Regulations).

National Security Council Files series:

Volume: 43 cubic feet.

A number of documents which were previously withheld from public access have been reviewed and/or declassified under the Mandatory Review provisions of Executive Order 12958 and will be made available.

Previously restricted materials:

Volume: 1 cubic foot.

Public access to some of the items in the file segments listed in this notice will be restricted as outlined in 36 CFR 1275.50 or 1275.52 (Public Access Regulations).

Dated: February 5, 2001.
John W. Carlin,
Archivist of the United States.

[FR Doc. 01-3420 Filed 2-9-01; 8:45 am]

BILLING CODE 7515-01-P